DEPARTMENT OF TRANSPORTATION

Federal Aviation Administration

14 CFR Part 71

[Docket No. FAA-2024-1848; Airspace Docket No. 24-ASO-10]

RIN 2120-AA66

Amendment and Revocation of Domestic Very High Frequency Omnidirectional Range (VOR) Federal Airways; Eastern United States

AGENCY: Federal Aviation Administration (FAA), DOT.

ACTION: Notice of proposed rulemaking (NPRM).

SUMMARY: This action proposes to amend domestic Very High Frequency Omnidirectional Range (VOR) Federal Airways V-3, V-35, V-51, V-97, V-157, V-159, V-225, V-437, V-492, V-521, and V-537 and revocation of VOR Federal Airways V-295, V-529, and V-601 in the eastern United States. The FAA is taking this action due to the planned decommissioning of the Cypress, FL (CYY), VOR/Distance Measuring Equipment (VOR/DME); the La Belle, FL (LBV), VOR/Tactical Air Navigation (VORTAC); the Pahokee, FL (PHK), VOR/DME; and the Treasure, FL (TRV), VORTAC. This action is in support of the FAA's VOR Minimum Operational Network (MON) Program.

DATES: Comments must be received on or before September 3, 2024.

ADDRESSES: Send comments identified by FAA Docket No. FAA-2024-1848 and Airspace Docket No. 24-ASO-10 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends the route structure to maintain the efficient flow of air traffic within the National Airspace System (NAS).

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA 30337.

Incorporation by Reference

Domestic VOR Federal airways are published in paragraph 6010(a) of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

The FAA is planning to decommission the Cypress, FL (CYY), VOR/DME; the La Belle, FL (LBV), VORTAC; the Pahokee, FL (PHK), VOR/DME; and the Treasure, FL (TRV), VORTAC in April 2025. The Cypress VOR/DME, the La Belle VORTAC, the Pahokee VOR/DME, and the Treasure VORTAC are candidate navigational aids (NAVAID) identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

The Air Traffic Service (ATS) routes affected by the planned NAVAID decommissioning are VOR Federal Airways V-3, V-35, V-51, V-97, V-157, V-159, V-225, V-295, V-437, V-492, V-521, V-529, V-537, and V-601. With the planned decommissioning of the Cypress VOR/DME, the La Belle VORTAC, the Pahokee VOR/DME, and the Treasure VORTAC, the remaining ground-based NAVAID coverage in the area is insufficient to enable the continuity of the affected ATS routes. As such, proposed modifications to V-35, V-51, V-97, V-159, V-225, V-437, V-492, V-521, and V-537 would result in the airways being shortened; to V-3 would be redesigned without the decommissioned NAVAID; to V-157 would result in a gap being created; and to V-295, V-529, and V-601 would result in the airways being revoked.

To overcome the proposed modifications to the affected routes, instrument flight rules (IFR) traffic could use adjacent VOR Federal airways or receive air traffic control (ATC) radar vectors to fly through or circumnavigate the affected area. Additionally, IFR pilots operating aircraft equipped with Area Navigation (RNAV) could also use the adjacent RNAV Routes T-208, T-341, T-343, T-345, and T-347; or navigate point-to-point using the existing fixes that will remain in place to support continued operations though the affected area. Visual flight rules (VFR) pilots who elect to navigate via airways through the affected area could also take advantage of ATC services listed previously.

The Proposal

The FAA is proposing an amendment to 14 CFR part 71 to amend VOR Federal Airways V-3, V-35, V-51, V-97, V-157, V-159, V-225, V-437, V-492, V-521, and V-537; and revoke VOR Federal Airways V-295, V-529, and V-601 to support the planned decommissioning of the Cypress, FL (CYY), VOR/DME; the La Belle, FL (LBV), VORTAC; the Pahokee, FL (PHK), VOR/DME; and the Treasure, FL (TRV), VORTAC. This action is in support of the FAA's VOR MON Program.

V-3: V-3 currently extends between the Key West, FL (EYW), VORTAC and the intersection of the Savannah, GA (SAV), VORTAC 028° and Allendale, SC (ALD), VOR 116° radials (OWENS Fix); between the Florence, SC (FLO), VORTAC and the Boston, MA (BOS), VOR/DME; and between the Presque Isle, ME (PQI), VOR/DME and the intersection of the Presque Isle VOR/DME 270° and the Millinocket, ME (MLT), VOR/DME 320° radials (LABRE Fix). The FAA proposes to remove the Treasure, FL (TRV), VORTAC from the route and replace it with the intersection of the Palm Beach, FL (PBI), VORTAC 340° True (T)/343° Magnetic (M) and the Lee County, FL (RSW), VORTAC 063°T/065°M radials due to the scheduled decommissioning of the Treasure VORTAC.

Additionally, the FAA proposes to remove the airway segment between the Presque Isle VOR/DME and the LABRE Fix near the United States (U.S.)/Canadian border. The airway structure that connected to the LABRE Fix on the Canadian side of the border has been removed so this airway segment is no longer needed for navigation. As amended, the airway would be changed to extend between the Key West VORTAC and the OWENS Fix; and between the Florence VORTAC and the Boston VOR/DME.

V-35: V-35 currently extends between the Dolphin, FL (DHP), VORTAC and the Pecan, GA (PZD), VOR/DME; between the intersection of the Dublin, GA (DBN), VORTAC 309° and the Athens, GA (AHN), VOR/DME 195° radials (SINCA Fix) and the Morgantown, WV (MGW), VOR/DME; and between the Philipsburg, PA (PSB), VORTAC and the Stonyfork, PA (SFK), VOR/DME. The FAA proposes to remove the airway segments between the Dolphin VORTAC and the Lee County, FL (RSW), VORTAC due to the scheduled decommissioning of the Cypress, FL (CYY), VOR/DME. As amended, the airway would be changed to extend between the Lee County VORTAC and the Pecan VOR/DME, between the SINCA Fix and the Morgantown VOR/DME, and between the Philipsburg VORTAC and the Stonyfork VOR/DME.

V-51: V-51 currently extends between the Pahokee, FL (PHK), VOR/DME and the Craig, FL (CRG), VORTAC; between the Hinch Mountain, TN (HCH), VOR/DME and the Louisville, KY (IIU), VORTAC; and between the Shelbyville, IN (SHB), VOR/DME and the Chicago Heights, IL (CGT), VORTAC. The FAA proposes to remove the airway segments between the Pahokee VOR/DME and the Ormond Beach, FL (OMN), VORTAC due to the scheduled decommissioning of the Pahokee VOR/DME and the Treasure, FL (TRV), VORTAC. As amended, the airway would be changed to extend between the Ormond Beach VORTAC and the Craig VORTAC; between the Hinch Mountain VOR/DME and the Louisville VORTAC; and between the Shelbyville VOR/DME and the Chicago Heights VORTAC.

V-97: V-97 currently extends between the Dolphin, FL (DHP), VORTAC and the intersection of the Pecan, GA (PZD), VOR/DME 357° and Vienna, GA (VNA), VORTAC 300° radials (PRATZ Fix); between the intersection of the Rome, GA (RMG), VORTAC 060° and the Volunteer, TN (VXV), VORTAC 197° radials (NELLO Fix) and the intersection of the Chicago Heights, IL (CGT), VORTAC 358° and DuPage, IL (DPA), VOR/DME 101° radials (NILES Fix); and between the Nodine, MN (ODI), VORTAC and the Gopher, MN (GEP), VORTAC. The FAA proposes to remove the airway segments between the Dolphin VORTAC and the St. Petersburg, FL (PIE), VORTAC due to the scheduled decommissioning of the La Belle, FL (LBV), VORTAC. As amended, the airway would be changed to extend between the St. Petersburg VORTAC and the PRATZ Fix; between the NELLO Fix and the NILES Fix; and between the Nodine VORTAC and the Gopher VORTAC. Concurrent changes to other segments of V-97 have been proposed in a separate rulemaking docket.

V-157: V-157 currently extends between the Key West, FL (EYW), VORTAC and the Waycross, GA (AYS), VORTAC; between the Florence, SC (FLO), VORTAC and the Tar River, NC (TYI), VORTAC; and between Robbinsville, NJ (RBV), VORTAC and the Albany, NY (ALB), VORTAC. The FAA proposes to remove the airway segments between the Dolphin, FL (DHP), VORTAC and the Lakeland, FL (LAL), VORTAC due to the scheduled decommissioning of the La Belle, FL (LBV), VORTAC. As amended, the airway would be changed to extend between the Key West VORTAC and the Dolphin VORTAC; between the Lakeland VORTAC and the Waycross VORTAC; between the Florence VORTAC and the Tar River VORTAC; and between the Robbinsville VORTAC and the Albany VORTAC.

V-159: V-159 currently extends between the Virginia Key, FL (VKZ), VOR/DME and the Vulcan, AL (VUZ), VORTAC; and between the Holly Springs, MS (HLI), VORTAC and the Omaha, IA (OVR), VORTAC. The FAA proposes to remove the airway segments between the Virginia Key VOR/DME and the intersection of the Melbourne, FL (MLB), VOR/DME 269° T/276° M and the Orlando, FL (ORL), VORTAC 140° radials (DEARY Fix) due to the scheduled decommissioning of the Treasure, FL (TRV), VORTAC. As amended, the airway would be changed to extend between the DEARY Fix and the Vulcan VORTAC; and between the Holly Springs VORTAC and the Omaha VORTAC.

V-225: V-225 currently extends between the Key West, FL (EYW), VORTAC and the Treasure, FL (TRV), VORTAC. The FAA proposes to remove the airway segments between the Lee County, FL (RSW), VORTAC and the Treasure VORTAC due to the scheduled decommissioning of the La Belle, FL (LBV), VORTAC and the Treasure VORTAC. Additionally, the FAA proposes to remove the specified floor of controlled airspace along the route as it is no longer valid and remove the portion of the description that “The portion of V-225 E alternate outside of the United States has no upper limit”, as V-225 E alternate no longer exists. As amended, the airway would be changed to extend between the Key West VORTAC and the Lee County VORTAC.

V-295: V-295 currently extends between the Virginia Key, FL (VKZ), VOR/DME and the Seminole, FL (SZW), VORTAC. The FAA proposes to remove the airway segments between the Virginia Key VOR/DME and the Orlando, FL (ORL), VORTAC due to the scheduled decommissioning of the Treasure, FL (TRV), VORTAC. Additionally, the FAA proposes to remove the airway segments between the Orlando VORTAC and the Seminole VORTAC due to redundant navigation capability provided by VOR Federal Airways V-159 and V-7. Thus, the FAA proposes to remove the route in its entirety.

V-437: V-437 currently extends between the Dolphin, FL (DHP), VORTAC and the Florence, SC (FLO), VORTAC. The FAA proposes to remove the airway segments between the Dolphin VORTAC and the Melbourne, FL (MLB), VOR/DME due to the scheduled decommissioning of the Pahokee, FL (PHK), VOR/DME. As amended, the airway would be changed to extend between the Melbourne VOR/DME and the Florence VORTAC.

V-492: V-492 currently extends between the La Belle, FL (LBV), VORTAC and the Melbourne, FL (MLB), VOR/DME. The FAA proposes to remove the airway segments between the La Belle VORTAC and the Palm Beach, FL (PBI), VORTAC due to the scheduled decommissioning of the La Belle VORTAC and the Pahokee, FL (PHK), VOR/DME. As amended, the airway would be changed to extend between the Palm Beach VORTAC and the Melbourne VOR/DME.

V-521: V-521 currently extends between the Dolphin, FL (DHP), VORTAC and the Vulcan, AL (VUZ), VORTAC. The FAA proposes to remove the airway segments between the Dolphin VORTAC and the Lee County, FL (RSW), VORTAC due to the scheduled decommissioning of the La Belle, FL (LBV), VORTAC. Additionally, the FAA proposes to remove the airway segments between the Lee County VORTAC and the Marianna, FL (MAI), VORTAC due to redundant navigation capability provided by VOR Federal Airways V-7 and V-198. As amended, the airway would be changed to extend between the Marianna VORTAC and the Vulcan VORTAC.

V-529: V-529 currently extends between the intersection of the Miami, FL, VOR 222° and the La Belle, FL (LBV), VORTAC 158° radials (FAMIN Fix) and the La Belle, VORTAC. The FAA proposes to remove the airway in its entirety due to the scheduled decommissioning of the La Belle VORTAC.

V-537: V-537 currently extends between the Palm Beach, FL (PBI), VORTAC and the Greenville, FL (GEF), VORTAC. The FAA proposes to remove the airway segments between the Palm Beach VORTAC and the intersection of the Melbourne, FL (MLB), VOR/DME 269° T/276° M and the Orlando, FL (ORL), VORTAC 140° T/140° M radials (DEARY Fix) due to the scheduled decommissioning of the Treasure, FL (TRV), VORTAC. As amended, the airway would be changed to extend between the DEARY Fix and the Greenville VORTAC.

V-601: V-601 currently extends between the Pahokee, FL (PHK), VOR/DME and the Key West, FL (EYW), VORTAC. The FAA proposes to remove the airway in its entirety due to the scheduled decommissioning of the Pahokee VOR/DME.

The full descriptions of the above routes are set forth below in the proposed amendments to part 71. The NAVAID radials listed in the VOR Federal airway description regulatory text of this final rule are stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6010(a) Domestic VOR Federal Airways.

* * * * *

V-3 [Amended]

From Key West, FL; INT Key West 083° and Dolphin, FL, 191° radials; Dolphin; Ft. Lauderdale, FL; Palm Beach, FL; INT Palm Beach 340° T/343° M and Lee County, FL 063° T/065° M radials; Melbourne, FL; Ormond Beach, FL; Brunswick, GA; INT Brunswick 014° and Savannah, GA, 177° radials; Savannah; to INT Savannah 028° and Allendale, SC, 116° radials. From Florence, SC; Sandhills, NC; Raleigh-Durham, NC; INT Raleigh-Durham 016° and Flat Rock, VA, 214° radials; Flat Rock; Gordonsville, VA; INT Gordonsville 331° and Martinsburg, WV, 216° radials; Martinsburg; Westminster, MD; INT Westminster 048° and Modena, PA, 258° radials; Modena; Solberg, NJ; INT Solberg 044° and Carmel, NY, 243° radials; Carmel; Hartford, CT; INT Hartford 084° and Boston, MA, 224° radials; to Boston. The airspace within R-2916, R-2934, R-2935, is excluded.

* * * * *

V-35 [Amended]

From Lee County, FL; INT Lee County 326° and St. Petersburg, FL, 152° radials; St. Petersburg; INT St. Petersburg 350° and Cross City, FL, 168° radials; Cross City; Greenville, FL; to Pecan, GA. From INT Dublin, GA 309° and Athens, GA, 195° radials; Athens; Electric City, SC; Sugarloaf Mountain, NC; Holston Mountain, TN; Glade Spring, VA; Charleston, WV; INT Charleston 051° and Elkins, WV, 264° radials; Clarksburg, WV; to Morgantown, WV. From Philipsburg, PA; to Stonyfork, PA.

* * * * *

V-51 [Amended]

From Ormond Beach, FL; to Craig, FL. From Hinch Mountain, TN; Livingston, TN; to Louisville, KY. From Shelbyville, IN; INT Shelbyville 313° and Boiler, IN, 136° radials; Boiler; to Chicago Heights, IL.

* * * * *

V-97 [Amended]

From St. Petersburg, FL; Seminole, FL; Pecan, GA; to INT Pecan 357° and Vienna, GA 300° radials. From INT Rome, GA 060° and Volunteer, TN, 197° radials; Volunteer; London, KY; Lexington, KY; Cincinnati, KY; Shelbyville, IN; INT Shelbyville 313° and Boiler, IN, 136° radials; Boiler; Chicago Heights, IL; to INT Chicago Heights 358° and DuPage, IL, 101° radials. From Nodine, MN; to Gopher, MN. The airspace below 2,000 feet MSL outside the United States is excluded.

* * * * *

V-157 [Amended]

From Key West, FL; INT Key West 038° and Dolphin, FL, 244° radials; to Dolphin. From Lakeland, FL; Ocala, FL; INT Ocala 346° and Taylor, FL, 170° radials; Taylor; to Waycross, GA. From Florence, SC; Fayetteville, NC; Kinston, NC; to Tar River, NC. From Robbinsville, NJ; INT Robbinsville 044° and LaGuardia, NY, 213° radials; LaGuardia; INT LaGuardia 032° and Deer Park, NY, 326° radials; INT Deer Park 326° and Kingston, NY, 191° radials; Kingston; to Albany, NY.

* * * * *

V-159 [Amended]

From Melbourne, FL 269° T/276° M and Orlando, FL, 140° radials; Orlando; Ocala, FL; Cross City, FL; Greenville, FL; Pecan, GA; Eufaula, AL; INT Eufaula 320° and Vulcan, AL 139° radials to Vulcan. From Holly Springs, MS; Gilmore, AR; Walnut Ridge, AR; Dogwood, MO; Springfield, MO; Napoleon, MO; INT Napoleon 005° and St. Joseph, MO, 122° radials; St. Joseph; to Omaha, IA.

* * * * *

V-225 [Amended]

From Key West, FL; to Lee County, FL.

* * * * *

V-295 [Removed]

* * * * *

V-437 [Amended]

From Melbourne, FL; INT Melbourne 322° and Ormond Beach, FL, 211° radials; Ormond Beach; INT Ormond Beach 360° and Savannah, GA, 177° radials; Savannah; INT Savannah 054° and Charleston, SC, 231° radials; Charleston; to Florence, SC. The airspace within R-2935 is excluded.

* * * * *

V-492 [Amended]

From Palm Beach, FL; INT Palm Beach 356° and Melbourne, FL, 146° radials, to Melbourne.

* * * * *

V-521 [Amended]

From Marianna, FL; Wiregrass, AL; INT Wiregrass 333° and Montgomery, AL, 129° radials; Montgomery; INT Montgomery 357° and Vulcan, AL, 139° radials; to Vulcan.

* * * * *

V-529 [Removed]

* * * * *

V-537 [Amended]

From INT Melbourne, FL, 269° T/276° M and Orlando, FL, 140° T/140° M radials; INT Orlando 140° and Melbourne 298° radials; INT Melbourne 298° and Ocala, FL 145° radials; Ocala; Gators, FL; to Greenville, FL.

* * * * *

V-601 [Removed]

* * * * *

Issued in Washington, DC, on July 11, 2024.
Brian Eric Konie,
Acting Manager, Rules and Regulations Group.

[FR Doc. 2024-15557 Filed 7-17-24; 8:45 am]

BILLING CODE 4910-13-P